DEPARTMENT OF TRANSPORTATION

Federal Aviation Administration

Notice To Amend Federal Grant Assurance Obligations at Elko Regional Airport (EKO), Elko, Nevada

AGENCY: Federal Aviation Administration, DOT.

ACTION: Notice of Land-Use Change Application to Amend Grant Agreement Obligations.

SUMMARY: The Federal Aviation Administration (FAA) proposes to rule and invites public comment on the application for a land-use change authorization effecting approximately 12.2 acres of airport property at the Elko Regional Airport, Elko, Nevada which will provide for an amendment of the Grant Agreement Assurance obligation that requires use of airport land for aeronautical purposes. Since the City of Elko, sponsor of the Elko Regional Airport, acquired the land in 1930, the property does not have an aeronautical purpose or planned to be used for an aeronautical purpose. The land-use change will authorize the release of the aeronautical-use obligation from the Grant Assurance Agreement for a proposed long term non-aeronautical commercial development. The 12.2 acres of airport land is identified as “future commercial” on the FAA conditionally approved Airport Layout Plan (ALP). The approximately 12.2 acres of airport property is currently zoned as “light industrial business park” and the land is proposed for retail mall development. The proposed developer will pay the costs to develop, manage, and improve the property for non-aeronautical commercial businesses. The City of Elko will lease the land at fair market value (FMV) to earn revenue for the airport thereby benefiting the airport and serving the interest of civil aviation. The proposed use will be compatible with the airport and will not interfere with the airport or its operation.

DATES: Comments must be received on or before November 2, 2015.

FOR FURTHER INFORMATION CONTACT: Comments on the request may be mailed or delivered to the FAA at the following address Mike N. Williams, Manager, Federal Aviation Administration, Phoenix Airports District Office, Federal Register Comment, 3800 N. Central Avenue, Suite 1025, 10th Floor, Phoenix, Arizona 85012. In addition, one copy of the comment submitted to the FAA must be mailed or delivered to Mr. Mark Gibbs, Airport Director, Elko Regional Airport, 975 Terminal Way, Elko, Nevada 89801.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Elko, Nevada, owner of the Elko Regional Airport, requested the Federal Aviation Administration to authorize a land-use change on approximately 12.2 acres of airport land at the Elko Regional Airport. The land-use change authorization will amend the Grant Agreement Assurance obligations that require the use of the 12.2 acres of airport land for aviation purposes to allow for long term non-aeronautical use for revenue generating purposes. The City of Elko has owned this portion of land in fee simple since 1930 and was acquired for the airport without any use of federal funding or for noise abatement purposes. The land has been cleared and graded many years ago with no additional encumbrances. With the exception of a portion of the subject land being used for unsecured equipment storage by the Nevada Department of Transportation, the land is vacant and unimproved and has not been used for aeronautical purposes since the parcel of land was acquired. The City of Elko has intended the property for non-aeronautical development because the adjacent topography has made the land unsuitable for most aeronautical use. The parcels of land are located northeast of the secondary runway area, outside of the airport fence line adjacent to Taxiway B and Nevada State Highway 225 (Mountain City Highway).

The City of Elko has determined the fair market value of the land and will ensure the FMV rental income will be devoted to airport maintenance, operations and capital projects which will benefit the airport. The reuse of the property will not interfere with the airport or its operation; thereby, serve the interests of civil aviation.

Issued in Phoenix, Arizona, on September 20, 2015.
Mike N. Williams,
Manager, Phoenix Airports District Office, Western-Pacific Region.

[FR Doc. 2015-25086 Filed 10-1-15; 8:45 am]

BILLING CODE 4910-13-P